LEGAL SERVICES CORPORATION

Notice of Availability of Calendar Year 2003 Competitive Grant Funds for Services Areas MNJ, NJ-8, NJ-12, NJ-15, NJ-16, NJ-17, and NJ-18 in New Jersey

AGENCY: Legal Services Corporation.

ACTION: Solicitation of proposals for the provision of Civil Legal Services for service areas MNJ, NJ-8, NJ-12, NJ-15, NJ-16, NJ-17, and NJ-18 in New Jersey.

SUMMARY: The Legal Services Corporation (LSC) is the national organization charged with administering federal funds provided for civil legal services to the poor. Congress has adopted legislation requiring LSC to utilize a system of competitive bidding for the award of grants and contracts.

LSC hereby announces the availability of competitive grant funds and is soliciting grant proposals from interested parties who are qualified to provide effective, efficient and high quality civil legal services to the eligible client population in the Basic Field-General and Basic Field-Migrant service areas in New Jersey. The exact amount of congressionally appropriated funds and the date and terms of their availability for calendar year 2003 are not yet known.

DATES: See Supplemental Information section for grants competition dates.

ADDRESSES: Legal Services Corporation—Competitive Grants, 750 First Street NE., 10th Floor, Washington, DC 20002-4250.

FOR FURTHER INFORMATION CONTACT: Office of Program Performance, competitive grants service desk by fax at 1.877.378.9997, by e-mail at competition@lsc.gov, or visit the LSC competition website at http://www.ain.lsc.gov.

SUPPLEMENTARY INFORMATION: The Request for Proposals (RFP) is available from http://www.ain.lsc.gov. A Notice of Intent to Compete is required. It is due by 5 p.m. ET, July 12, 2002. Grant proposals must be received at LSC by 5 p.m. ET, August 9, 2002. LSC is seeking proposals from non-profit organizations that have as a purpose the furnishing of legal assistance to eligible clients, and from private attorneys, groups of private attorneys or law firms, state or local governments, and substate regional planning and coordination agencies which are composed of substate areas and whose governing boards are controlled by locally elected officials.

The RFP, containing the grant application, guidelines, proposal content requirements and specific selection criteria, is available at http://www.ain.lsc.gov. Descriptions of the New Jersey service areas are available at http://www.ain.lsc.gov. LSC will not fax the solicitation package to interested parties.

Issue Date: June 18, 2002.
Michael A. Genz,
Director, Office of Program Performance.

[FR Doc. 02-15836 Filed 6-21-02; 8:45 am]

BILLING CODE 7050-01-P